DEPARTMENT OF HEALTH AND HUMAN SERVICES

National Institutes of Health

National Institute of Diabetes and Digestive and Kidney Diseases; Amended Notice of Meeting

Notice is hereby given of a change in the meeting of the National Diabetes and Digestive and Kidney Diseases Advisory Council, May 14, 2025, 08:30 a.m. to May 15, 2025, 04:00 p.m., National Institutes of Health, Building 31, 31 Center Drive, Bethesda, MD 20892 which was published in the Federal Register on December 30, 2024, 89 FR 106541.

This amendment is to change the format from in person to virtual; the time is being changed from 8:30 a.m.-4:00 p.m. to 10: 00 a.m.-1:45 p.m. The meeting is partially Closed to the public.

Dated: April 22, 2025.
Bruce A. George,
Program Analyst, Office of Federal Advisory Committee Policy.

[FR Doc. 2025-07209 Filed 4-25-25; 8:45 am]

BILLING CODE 4140-01-P